Title 3—

The President

Proclamation 7560 of May 13, 2002

National Hurricane Awareness Week, 2002

By the President of the United States of America

A Proclamation

Hurricanes can devastate our communities, endangering thousands of human lives and causing billions of dollars in property damage. Stemming from the ocean, the atmosphere, and heat from the sea, hurricanes bring with them the potential for high winds, tornadoes, torrential rains, flooding, and ocean water storm surges. Their fierce and destructive power requires that we all take steps to reduce our vulnerability to this natural hazard.

According to the Federal Emergency Management Agency (FEMA) and the National Oceanic and Atmospheric Administration, an average of ten tropical storms develop annually over the Atlantic Ocean, Caribbean Sea, and Gulf of Mexico. Every year, an average of six of these storms grow strong enough to become hurricanes. Approximately five hurricanes strike the United States coastline every 3 years. Out of these, two will have winds above 111 miles per hour, qualifying them as major hurricanes. The resulting high winds and high waves can seriously damage homes, businesses, public buildings, and critical infrastructure, and ultimately have the potential to injure people and claim lives.

To help avoid damage and help ensure the public's safety from hurricane hazards, FEMA recommends a variety of preventative steps for both individuals and communities. For example, construction measures can help minimize property destruction. These include installing storm shutters over exposed glass and adding hurricane straps to hold the roof of a structure to its walls and foundation. More complex measures, such as elevating coastal homes and businesses, can further reduce a property's susceptibility. In addition, communities can reduce their vulnerability by adopting wind- and flood-resistant building codes and by implementing sound land-use planning.

More than 50 million people live along hurricane-prone coastlines in the United States, with millions of tourists visiting these areas annually. During National Hurricane Awareness Week, I encourage those who live in coastal areas, as well as all concerned Americans, to be more vigilant in preparing for hurricanes and other natural disasters before they occur. By promoting awareness of hurricane hazards and helping with relief efforts when these powerful storms strike, we can reduce the risks of hurricane damage and help our neighbors recover more quickly from their devastating effects. With preparation, forecasting, and coordination, we can save lives and improve our Nation's ability to withstand the impact of hurricanes.

NOW, THEREFORE, I, GEORGE W. BUSH, President of the United States of America, by virtue of the authority vested in me by the Constitution and laws of the United States, do hereby proclaim May 19 through May 25, 2002, as National Hurricane Awareness Week. I call on government agencies, private organizations, schools, news media, and residents in hurricane-prone areas to share information about hurricane preparedness and response in order to help prevent storm damage and save lives.

IN WITNESS WHEREOF, I have hereunto set my hand this thirteenth day of May, in the year of our Lord two thousand two, and of the Independence of the United States of America the two hundred and twenty-sixth.

B

[FR Doc. 02-12371

Filed 5-14-02; 11:34 am]

Billing code 3195-01-P